ENVIRONMENTAL PROTECTION AGENCY

[EPA-HQ-OPPT-2019-0500; FRL-10006-79]

Trichloroethylene; TSCA Science Advisory Committee on Chemicals (SACC) Meeting; Amended Notice of Public Meeting

AGENCY: Environmental Protection Agency (EPA).

ACTION: Notice.

SUMMARY: EPA is announcing that the March 24-26, 2020, Toxic Substances Control Act (TSCA) Science Advisory Committee on Chemicals (SACC) meeting, previously announced in the Federal Register on February 26, 2020, (85 FR 11079) (FRL-10005-52) is being changed to a virtual public meeting, with participation by phone and webcast only. There will be no in-person gathering for this meeting. Meeting times and dates are adjusted to accommodate this change.

DATES: Virtual meeting: The virtual meeting will be held on March 24-27, 2020, from 10:00 a.m. to approximately 5:00 p.m. (EDT). To make oral comments during the virtual meeting, please register by noon on March 20, 2020.

ADDRESSES: Virtual meeting: Please visit http://www.epa.gov/tsca-peer-review to register. You must register online to receive the webcast meeting link and audio teleconference information for participation.

FOR FURTHER INFORMATION CONTACT: TSCA SACC: Dr. Todd Peterson, DFO, Office of Science Coordination and Policy (7201M), Environmental Protection Agency, 1200 Pennsylvania Ave. NW, Washington, DC 20460-0001; telephone number: (202) 564-6428; email address: peterson.todd@epa.gov.

SUPPLEMENTARY INFORMATION:

I. Background

EPA is announcing that the Toxic Substances Control Act (TSCA) Science Advisory Committee on Chemicals (SACC) meeting to consider and review the draft risk evaluation for Trichloroethylene (TCE) will be a virtual public meeting, with participation by phone and webcast only. There will be no in-person gathering for this meeting. To accommodate this change, meeting start times are adjusted, and the meeting dates are extended by one day. The topic for this meeting remains unchanged from that described in the February 26, 2020, Federal Register notice (85 FR 11079) (FRL-10005-52). Due to the outbreak of the novel coronavirus, SARS-CoV-2, the cause of COVID-19, the agency is implementing this change out of an abundance of caution and in response to travel restrictions imposed by some SACC members' employers and other members' concerns regarding travel.

II. How do I participate in the virtual public meeting?

Virtual meeting. The virtual meeting will be conducted via webcast and telephone. You may participate in the virtual meeting by registering to join the webcast. You may also submit written or oral comments.

i. Registration. You must register to participate in the virtual meeting. To participate by listening or making a comment during this meeting, please go to the EPA website to register: http://www.epa.gov/tsca-peer-review. Registration online will be confirmed by an email that will include the webcast meeting link and audio teleconference information.

ii. Oral comments. Requests to make brief oral comments to the TSCA SACC during the virtual meeting should be submitted when registering online or with the DFO listed under FOR FURTHER INFORMATION CONTACT on or before noon on the date set in the DATES section. Oral comments before the TSCA SACC during the virtual meeting are limited to approximately 5 minutes. Each speaker should email their comments and presentation to the DFO listed under FOR FURTHER INFORMATION CONTACT, preferably, at least 24 hours prior to the oral public comment period.

iii. Written comments. Please refer to the February 26, 2020, Federal Register notice (85 FR 11079) for detailed instructions on written comments.

Authority: 15 U.S.C. 2601 et seq.

Dated: March 13, 2020.
Hayley Hughes,
Director, Office of Science Coordination and Policy.

[FR Doc. 2020-05826 Filed 3-19-20; 8:45 am]

BILLING CODE 6560-50-P